Proclamation 8524 of May 20, 2010

National Safe Boating Week, 2010

By the President of the United States of America

A Proclamation

Our Nation’s waterways provide endless opportunities for family recreation, exercise, or moments of quiet solitude and reflection. As the weather warms and people prepare to spend time on the water, let us recommit during National Safe Boating Week to practicing safe techniques so boaters of all ages can enjoy this pastime.

Responsible and informed behavior on board can keep boaters and passengers free from harm. Wearing a Coast Guard-approved life jacket, taking a boating safety course, being aware of weather conditions, and ensuring all boats have the necessary safety equipment are all important steps Americans can take to minimize risk on the water. Those who operate boats must also take extra precautions to keep their passengers safe and never boat under the influence of drugs or alcohol.

To help save lives and prevent accidents, the United States Coast Guard partners with boating organizations to raise awareness and teach safe boating practices. Boaters can take advantage of these opportunities to learn, make informed decisions, and teach family and friends to use caution while on board. By practicing safe boating habits and encouraging others to do the same, Americans can protect themselves and others throughout the boating season.

In recognition of the importance of safe boating practices, the Congress, by Joint Resolution approved June 4, 1958 (36 U.S.C. 131), as amended, has authorized and requested the President to proclaim annually the 7-day period prior to Memorial Day weekend as “National Safe Boating Week.”

NOW, THEREFORE, I, BARACK OBAMA, President of the United States of America, do hereby proclaim May 22 through May 28, 2010, as National Safe Boating Week. I encourage all Americans who participate in boating activities to observe this occasion by learning more about safe boating practices and to take advantage of boating education.

IN WITNESS WHEREOF, I have hereunto set my hand this twentieth day of May, in the year of our Lord two thousand ten, and of the Independence of the United States of America the two hundred and thirty-fourth.

[FR Doc. 2010-12754

Filed 5-25-10; 8:45 am]

Billing code 3195-W0-P